DEPARTMENT OF AGRICULTURE

National Institute of Food and Agriculture

Solicitation of Input From Stakeholders Regarding the Proposed Crop Protection Competitive Grants Program

AGENCY: National Institute of Food and Agriculture, USDA.

ACTION: Notice of public meeting and request for stakeholder input.

SUMMARY: The President's budget proposal for FY 2013 consolidates six funding lines addressing pest management and integrated pest management (IPM) issues into a single budgetary line, called the Crop Protection Program (CPP). The six budgetary lines being consolidated are Expert Integrated Pest Management Decision Support System, IPM and Biological Control, Minor Crop Pest Management/IR-4, Pest Management Alternatives, Smith-Lever 3(d) Pest Management, and Regional Pest Management Centers. The new program is described broadly to encompass all of the functions of the existing programs. A listening session was previously announced in the Federal Register on Wednesday, February 1, 2012 to be held on March 29 to guide future Request for Applications (RFAs) of the Extension of IPM Coordination and Support Program (EIPM-CS), one of the programs affected by this realignment. That session has been redefined to collect stakeholder input on the broader Crop Protection topic. Additional opportunities for comment are also being scheduled. By this notice, NIFA is designated to act on behalf of the Secretary of Agriculture in soliciting public comment from interesting persons regarding the future design and implementation of this proposed program.

DATES: Four public meetings will be held to collect stakeholder input. The first of those meetings will be on Thursday, March 29, 2012 from 2 p.m. to 5 p.m. Central time. Successive meetings will be held on Wednesday, April 11, 2012 from 1 p.m. to 5 p.m. Eastern time; Monday, April 16, 2012 from 1 p.m. to 5 p.m. Eastern time; and Tuesday, May 1, 2012 from 1 p.m. to 5 p.m. Eastern time. All comments not otherwise presented or submitted for the record at one of the meetings must be submitted by close of business Thursday, May 31, 2012, to assure consideration in the development of the proposed FY 2013 Crop Protection RFA.

ADDRESSES: The March 29, 2012 meeting will be held in the Nashville Meeting Room, Memphis Marriot Downtown Hotel, 250 North Main Street, Memphis, Tennessee 38103, phone—888-557-8740 (toll-free in USA); 901-527-7300 (outside USA). The April 11 and May 1, 2012 meetings will be held by conference call (audio) and internet (visual only). Connection details for those meetings will be posted on the National Institute of Food and Agriculture Web site (www.nifa.usda.gov) or by contacting the individual listed under FOR FURTHER INFORMATION (below). The April 16, 2012 meeting will be held in room 1410A-D, Waterfront Centre Building, National Institute of Food and Agriculture, United States Department of Agriculture, 800 9th Street SW., Washington, DC 20024. Attendees will need to provide photo identification to be admitted in the building. Please allow sufficient time to go through security.

You may submit comments, identified by NIFA-2012-0006, by any of the following methods:

Federal eRulemaking Portal: http://www.regulations.gov. Follow the instructions for submitting comments.

Email: CropProtection@nifa.usda.gov. Include NIFA-2012-0006 in the subject line of the message.

Fax: (202) 401-1782.

Mail: Paper, disk or CD-ROM submissions should be submitted to Crop Protection comments; Division of Plant Protection, Institute of Food Production and Sustainability, National Institute of Food and Agriculture, U.S. Department of Agriculture; STOP 2220, 1400 Independence Avenue SW., Washington, DC 20250-2220.

Hand Delivery/Courier: Crop Protection; Division of Plant Protection, Institute of Food Production and Sustainability, National Institute of Food and Agriculture, U.S. Department of Agriculture; Room 3105, Waterfront Centre, 800 9th Street SW., Washington, DC 20024.

Instructions: All submissions received must include the agency name and the identifier NIFA-2012-0006. All comments received will be posted to http://www.regulations.gov, including any personal information provided.

FOR FURTHER INFORMATION CONTACT: Ms. Elizabeth Ley, (202) 401-6195 (phone), (202) 401-1782 (fax), or CropProtection@nifa.usda.gov.

SUPPLEMENTARY INFORMATION:

Additional Meeting and Comment Procedures

Because of the diversity of subjects, and to aid participants in scheduling their attendance, the following schedule is anticipated for the March 29, 2012, meeting:

2-2:20 p.m. Introduction to the proposed CPP.

2:20-5 p.m. Stakeholder input on general administration of the proposed CPP, including: solicitation of proposals, types of projects and awards, length of awards, evaluation criteria, and protocols to ensure the widest program participation, allocation of funds including protocols to solicit and consider stakeholder input, determination of priority areas, and determination of activities to be supported.

5 p.m. Adjourn.

Persons wishing to present oral comments at the March 29, 2012, meeting are requested to pre-register by contacting Elizabeth Ley, (202) 401-6195 (phone), by fax at (202) 401-1782, or by email to CropProtection@nifa.usda.gov.

Participants may reserve one 5-minute comment period. More time may be available, depending on the number of people wishing to make a presentation. Reservations for oral comments will be confirmed on a first-come, first-served basis. All other attendees may register at the meeting.

Written comments may also be submitted for the record at the meeting. All comments not presented or submitted for the record at the meeting must be submitted by close of business Thursday, May 31, 2012, to be considered in the development of the proposed FY 2013 CPP. All comments and the official transcript of the meeting, when they become available, may be reviewed on the NIFA Web page for six months. Participants who require a sign language interpreter or other special accommodations should contact Ms. Ley as directed above.

Background and Purpose

Current grant programs associated with this consolidation and their current funding authorities include Expert Integrated Pest Management Decision Support program (EIPMDSS)—(7 U.S.C. 450i Section (c)(1)(B)); Minor Crop Pest Management Program (IR-4)—(Section 2(c)(1)(B) of the Competitive, Special and Facilities Research Grant Act (7 U.S.C. 450i)); Pest Management Alternatives Program (PMAP)—(Section 2(c)(1)(A) of the Competitive, Special, and Facilities Research Grant Act, (Pub. L. No. 89-106), as amended (7 U.S.C. 450i(c)(1)(A)); Regional IPM Competitive Grants Program (RIPM)—(Section 2(c)(1)(B) of the Competitive, Special, and Facilities Research Grant Act (Pub. L. No. 89-106, as amended (7 U.S.C. 450i(c)(1)(B)) and Section 3(d) of the Smith-Lever Act (7 U.S.C. 343(d)); Extension Integrated Pest Management Coordination and Support (EIPM-CS)—(Section 3(d) of the Smith-Lever Act (7 U.S.C. 343(d) as amended by Section 7403 of the FCEA) (Pub. L. 110-246), and the Regional IPM Centers—(Section 406 of the Agricultural Research, Extension, and Education Reform Act of 1998 (AREERA) (7 U.S.C. 7626), as reauthorized by Section 7306 of the FCEA of 2008) (Pub. L. 110-246)). The Crop Protection Program, as proposed, would be authorized under Section 406 of the Agricultural Research, Extension, and Education Reform Act of 1998 (AREERA) (7 U.S.C. 7626), as reauthorized by Section 7306 of the FCEA) (Pub. L. 110-246). This funding authority will allow eligibility for four-year degree granting institutions and provide for the recovery of indirect costs. The intent of the listening sessions is to gather stakeholder input on program focus, function and design. Additional detail can be found in the explanatory notes to the President's budget, found at http://www.obpa.usda.gov/17nifa2013notes.pdf. USDA-NIFA suggests the following questions be addressed in drafting comments on the program. Prior to the listening session, National Program Leaders presented stakeholders with the following questions:

1. What conceptual elements are needed in the new CPP to address research education and extension in pest management to ensure global food security and other major societal challenges are addressed?

2. Is regionalization a sound concept for coordination of IPM programs? Why or why not?

3. What administrative functions are needed to adequately manage elements of the new program?

4. Should the program be delivered through a state, regional, or national structure or should there be a blend of elements to address regional and national interests?

5. How should resources be apportioned across the functional areas and across regions if regionalization is an element of the program?

6. If regional program delivery is a part of the concept, what critical benefits does this approach provide?

7. If a regional structure is deployed, what should it look like?

8. Should the CPP be limited to short-term projects or should longer-term ongoing programs also be supported?

9. What size should the awards be for research, education or extension? What scope should projects encompass?

10. What portion of the Crop Protection Program budget should be dedicated to each of the five IPM program areas: (a) Plant Protection Tactics and Tools; (b) Diversified IPM Systems; (c) Enhancing Agricultural Biosecurity; (d) IPM for a Sustainable Society; and (e) Development of the Next Generation of IPM Scientists.

The March, April and May 2012, Listening Sessions are scheduled to assist NIFA leadership in more fully addressing stakeholder needs and assuring that the CPP has influence on the discovery of new IPM knowledge, IPM principles are adopted, and end users are best served.

Implementation Plans

NIFA plans to consider stakeholder input received from these public meetings as well as other written comments in developing the FY 2013 program guidelines, dependent on Congressional appropriation. NIFA anticipates releasing the proposed FY 2013 RFA(s) by winter 2012-13.

Dated: Done at Washington, DC, this 23rd day of March 2012.
Chavonda Jacobs-Young,
Acting Director, National Institute of Food and Agriculture.

[FR Doc. 2012-7987 Filed 4-2-12; 8:45 am]

BILLING CODE 3410-22-P